INTERNATIONAL TRADE COMMISSION

[Investigation No. 337-TA-885]

Certain Portable Electronic Communications Devices, Including Mobile Phones and Components Thereof; Commission Determination Not To Review an Initial Determination Granting Joint Motion To Terminate the Investigation In Its Entirety Based on Settlement; Termination of Investigation

AGENCY: U.S. International Trade Commission.

ACTION: Notice.

SUMMARY: Notice is hereby given that the U.S. International Trade Commission has determined not to review an initial determination (“ID”) (Order No. 23) of the presiding administrative law judge (“ALJ”) granting joint motion to terminate the investigation in its entirety based on settlement.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930, 19 U.S.C. 1337, on June 26, 2013, based on a complaint filed by Nokia Corporation of Espoo, Finland and Nokia Inc., of Sunnyvale, California (collectively, “Nokia”). The complaint, as supplemented, alleges a violation of section 337 by reason of infringement of certain claims of U.S. Patent Nos. 6,035,189 (“the `189 patent”); 6,373,345; 6,711,211 (“the `211 patent”); 7,187,945; 8,140,650 (“the `650 patent”); and 8,363,824. 78 FR 38362 (Jun. 26, 2013). The respondents are HTC Corporation of Taoyuan City, Taiwan, and HTC America, Inc. of Bellevue, Washington (collectively, “HTC”). Subsequently, third party Google Inc. (“Google”) intervened as a party in this investigation with respect to three of the six patents, namely the `189, `211 and `650 patents. 78 FR 49764 (Aug. 15, 2013). The complaint was amended to add U.S. Patent No. 7,366,529 and to add Nokia's recently launched domestic industry products. 78 FR 56737 (Sept. 13, 2013).

On February 10, 2014, complainants Nokia and respondents HTC (collectively, “the Moving Parties”) filed a joint motion to terminate the investigation in its entirety. On February 25, 2014, the Moving Parties filed a corrected public version of the motion and corrected exhibits in support of the motion, including redacted public versions of the settlement agreements. The Moving Parties aver that intervenor Google does not oppose the motion to terminate the investigation.

On February 25, 2014, the ALJ issued an ID (Order No. 23). The ALJ found that termination of this investigation does not impose any undue burdens on the public health and welfare, competitive conditions in the United States economy, the production of like or directly competitive articles in the United States, and United States consumers. Order No. 23 at 5. The ALJ granted the motion to terminate. No party petitioned for review of the ID, and the Commission has determined not to review it.

The authority for the Commission's determination is contained in section 337 of the Tariff Act of 1930, as amended (19 U.S.C. 1337), and in Part 210 of the Commission's Rules of Practice and Procedure (19 CFR part 210).

By order to the Commission.
Issued: March 14, 2014.
Lisa R. Barton,
Acting Secretary to the Commission.

[FR Doc. 2014-06122 Filed 3-19-14; 8:45 am]

BILLING CODE 7020-02-P